DEPARTMENT OF ENERGY

Federal Energy Regulatory Commission

[Docket No. EG00-117-000, et al.]

Ameren Energy Generating Company, et al.; Electric Rate and Corporate Regulation Filings

May 22, 2000.

Take notice that the following filings have been made with the Commission:

1. Ameren Energy Generating Company

[Docket No. EG00-117-000]

Take notice that on May 18, 2000, Ameren Energy Generating Company (Generating Co.), c/o Ameren Services, 1901 Chouteau Avenue, St. Louis, MO 63166, filed with the Federal Energy Regulatory Commission an amendment to its application for determination of exempt wholesale generator status pursuant to Part 365 of the Commission's regulations.

Comment date: June 12, 2000, in accordance with Standard Paragraph E at the end of this notice. The Commission will limit its consideration of comments to those that concern the adequacy or accuracy of the application.

2. FirstEnergy System

[Docket No. ER00-2518-000]

Take notice that on May 17, 2000, FirstEnergy System tendered for filing a Service Agreement to provide Non-Firm Point-to-Point Transmission Service for Pepco Services, Inc., the Transmission Customer. Services are being provided under the FirstEnergy System Open Access Transmission Tariff submitted for filing by the Federal Energy Regulatory Commission in Docket No. ER97-412-000.

The proposed effective date under this Service Agreement is May 16, 2000 for the above mentioned Service Agreement in this filing..

Comment date: June 7, 2000, in accordance with Standard Paragraph E at the end of this notice.

3. FirstEnergy System

[Docket No. ER00-2519-000]

Take notice that on May 17, 2000, FirstEnergy System tendered for filing Service Agreements to provide Firm Point-to-Point Transmission Service for Pepco Services, Inc., the Transmission Customer. Services are being provided under the FirstEnergy System Open Access Transmission Tariff submitted for filing by the Federal Energy Regulatory Commission in Docket No. ER97-412-000.

The proposed effective date under this Service Agreement is May 16, 2000, for the above mentioned Service Agreement in this filing.

Comment date: June 7, 2000, in accordance with Standard Paragraph E at the end of this notice.

4. Southern Company Services, Inc.

[Docket No. ER00-2520-000]

Take notice that on May 17, 2000, Southern Company Services, Inc., as agent for Georgia Power Company (Georgia Power), tendered for filing the Interconnection Agreement by and between West Georgia Generating Company L.P. (West Georgia) and Georgia Power (the Agreement). The Agreement permits West Georgia to interconnect and operate in parallel with the Georgia Power electric system.

The Agreement is dated as of May 11, 2000 and shall terminate upon mutual written agreement of the parties.

Comment date: June 7, 2000, in accordance with Standard Paragraph E at the end of this notice.

5. The Dayton Power and Light Company

[Docket No. ER00-2521-000]

Take notice that on May 17, 2000, The Dayton Power and Light Company (Dayton), tendered for filing service agreements establishing MIECO Inc., as customers under the terms of Dayton's Open Access Transmission Tariff.

Dayton requests an effective date of one day subsequent to this filing for the service agreements. Accordingly, Dayton requests waiver of the Commission's notice requirements.

Copies of this filing were served upon establishing MIECO Inc., and the Public Utilities Commission of Ohio.

Comment date: June 7, 2000, in accordance with Standard Paragraph E at the end of this notice.

6. The Dayton Power and Light Company

[Docket No. ER00-2522-000]

Take notice that on May 17, 2000, The Dayton Power and Light Company (Dayton), tendered for filing service agreements establishing with Cargill—Alliant, LLC and MIECO Inc., as customers under the terms of Dayton's Open Access Transmission Tariff.

Dayton requests an effective date of one day subsequent to this filing for the service agreements. Accordingly, Dayton requests waiver of the Commission's notice requirements.

Copies of this filing were served upon with Cargill—Alliant, LLC, MIECO Inc., and the Public Utilities Commission of Ohio.

Comment date: June 7, 2000, in accordance with Standard Paragraph E at the end of this notice.

7. Public Service Company of New Mexico

[Docket No. ER00-2523-000]

Take notice that on May 17, 2000, Public Service Company of New Mexico (PNM), tendered for filing an executed service agreement and network operating agreement for network integration transmission service under the terms of PNM's Open Access Transmission Service Tariff with Navopache Electric Cooperative, Inc. (Navopache), dated April 26, 2000. PNM's filing is available for public inspection at its offices in Albuquerque, New Mexico

Copies of this filing have been served upon Navopache and the New Mexico Public Regulation Commission.

Comment date: June 7, 2000, in accordance with Standard Paragraph E at the end of this notice.

8. Entergy Services, Inc.

[Docket No. ER00-2524-000]

Take notice that on May 17, 2000, Entergy Services, Inc., on behalf of Entergy Louisiana, Inc., tendered for filing an Interconnection and Operating Agreement with Ouachita Power, LLC (Ouachita), and a Generator Imbalance Agreement with Ouachita.

Comment date: June 7, 2000, in accordance with Standard Paragraph E at the end of this notice.

9. Entergy Services, Inc.

[Docket No. ER00-2525-000]

Take notice that on May 17, 2000, Entergy Services, Inc., on behalf of Entergy Louisiana, Inc., tendered for filing an Interconnection and Operating Agreement with Koch Power Louisiana, L.L.C. (Koch), and a Generator Imbalance Agreement with Koch.

Comment date: June 7, 2000, in accordance with Standard Paragraph E at the end of this notice.

10. Entergy Services, Inc.

[Docket No. ER00-2526-000]

Take notice that on May 17, 2000, Entergy Services, Inc., on behalf of Entergy Gulf States, Inc., tendered for filing an Interconnection and Operating Agreement with Acadia Power Partners, LLC (Acadia), the First Amendment to the Interconnection Agreement with Acadia, and a Generator Imbalance Agreement with Acadia.

Comment date: June 7, 2000, in accordance with Standard Paragraph E at the end of this notice.

11. New Century Services, Inc.

[Docket No. ER00-2528-000]

Take notice that on May 17, 2000, New Century Services, Inc. (NCS), on behalf of Public Service Company of Colorado (Public Service), tendered for filing the Master Power Purchase and Sale Agreement between Public Service and Western Area Power Administration—Colorado River Storage Project., which is an umbrella service agreement under Public Service's Rate Schedule for Market-Based Power Sales (Public Service FERC Electric Tariff, Original Volume No. 6).

NCS requests that this agreement become effective on April 27, 2000.

Comment date: June 7, 2000, in accordance with Standard Paragraph E at the end of this notice.

12. Dow Pipeline Company

[Docket No. ER00-2529-000]

Take notice that on May 17, 2000, Dow Pipeline Company (DPL), tendered for filing pursuant to Rule 205, 18 CFR 385.205, a petition for waivers and blanket approvals under various regulations of the Commission and for an order accepting its FERC Electric Rate Schedule No. 1, and for the purpose of permitting Dow to assign transmission capacity and to resell Firm Transmission Rights, to be effective as of May 18, 2000, the day following the date of its filing.

DPL intends to engage in electric power and energy transactions as a marketer. In transactions where DPL sells electric energy, it proposes to make such sales on rates, terms, and conditions to be mutually agreed to with the purchasing party. Neither DPL nor any of its affiliates is in the business of transmitting or distributing electric power.

Rate Schedule No. 1 provides for the sale of energy and capacity at agreed prices.

Comment date: June 7, 2000, in accordance with Standard Paragraph E at the end of this notice.

13. Entergy Services, Inc.

[Docket No. ER00-2530-000]

Take notice that on May 17, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and MIECO, Inc.

Comment date: June 7, 2000, in accordance with Standard Paragraph E at the end of this notice.

14. Commonwealth Edison Company

[Docket No. ER00-2531-000]

Take notice that on May 17, 2000, Commonwealth Edison Company (ComEd) tendered for filing, pursuant to Section 205 of the Federal Power Act, and Part 35 of the Commission's Regulations, an Application for Authorization to Amend Market-Based Rate Schedule to allow ComEd to sell power at market-based rates to Central Illinois Power Company (CILCO).

ComEd also requests that the Commission permit its proposed amended rate schedule to take effect on May 18, 2000.

Comment date: June 7, 2000, in accordance with Standard Paragraph E at the end of this notice.

15. Tampa Electric Company

[Docket No. ER00-2532-000]

Take notice that on May 17, 2000, Tampa Electric Company (Tampa Electric), tendered for filing service agreements with Allegheny Energy Supply Company, LLC (Allegheny) for firm and non-firm point-to-point transmission service under Tampa Electric's open access transmission tariff.

Tampa Electric proposes an effective date of May 17, 2000, for the tendered service agreements, and therefore requests waiver of the Commission's notice requirement.

Copies of the filing have been served on Allegheny and the Florida Public Service Commission.

Comment date: June 7, 2000, in accordance with Standard Paragraph E at the end of this notice.

16. Tampa Electric Company

[Docket No. ER00-2533-000]

Take notice that on May 17, 2000, Tampa Electric Company (Tampa Electric), tendered for filing the First Amendment to the Interconnection Agreement among Tampa Electric, Seminole Electric Cooperative, Inc. (Seminole), and Hardee Power Partners Limited (HPP).

Tampa Electric proposes that the First Amendment be made effective on April 18, 2000, and therefore requests waiver of the Commission's notice requirement.

Copies of the filing have been served on Seminole, HPP, and the Florida Public Service Commission.

Comment date: June 7, 2000, in accordance with Standard Paragraph E at the end of this notice.

17. SOWEGA Power LLC

[Docket No. ER00-2534-000]

Take notice that on May 17, 2000, SOWEGA Power LLC tendered for filing, pursuant to Section 205 of the Federal Power Act, a Common Bus Ownership Agreement between itself and its prospective affiliate, Baconton Power LLC. The agreement concerns ownership interests in certain 230 kV bus facilities on the plant site shared by SOWEGA Power and Baconton Power that are used to connect the generators to Georgia Transmission Corporation.

SOWEGA Power seeks a waiver of the Commission's 60 day prior notice and filing requirements and requests an effective date from the Commission as of May 18, 2000.

Comment date: June 7, 2000, in accordance with Standard Paragraph E at the end of this notice.

18. EMW Marketing Corp.

[Docket No. ER00-2535-000]

Take notice that on May 17, 2000, EMW Marketing Corp. (EMW), tendered for filing an application for waivers and blanket approvals under various regulations of the Commission and for an order accepting EMW's FERC Electric Rate Schedule No. 1 and accompanying Code of Conduct to be effective as of 60 days from the date of the filing or upon issuance of the Commission's order accepting the Rate Schedule and Code of Conduct.

EMW intends to engage in electric power and energy transactions as a marketer and a broker. In transactions where EMW sells electric energy, it proposes to make such sales on rates, terms and conditions to be mutually agreed to with the purchasing party. EMW's proposed Rate Schedule also permits it to reassign transmission capacity and make resales of firm transmission rights in California.

Comment date: June 7, 2000, in accordance with Standard Paragraph E at the end of this notice.

19. Ameren Services Company

[Docket No. ER00-2538-000]

Take notice that on May 17, 2000, Ameren Services Company (AMS) , as Agent for Central Illinois Public Service Company (CIPS), tendered for filing a Fifth Amendment and Service Schedule L, each dated April 24, 2000, to the Power Supply Agreement, dated June 11, 1987, as amended, between Illinois Municipal Electric Agency (IMEA) and CIPS. AMS asserts that the purpose of the Amendment is to establish a two-year firm power supply for two of IMEA's members “ the cities of Batavia, IL and St. Charles, IL.

AMS requests that open acceptance of these filings retroactively become effective June 1, 2000.

Comment date: June 7, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13220 Filed 5-25-00; 8:45 am]

BILLING CODE 6717-01-P